DEPARTMENT OF AGRICULTURE

Forest Service

Notice of Proposed New Recreation Fee; Federal Lands Recreation Enhancement Act, (Title VIII, Pub. L. 108-447)

AGENCY: Columbia River Gorge National Scenic Area, Forest Service, USDA.

ACTION: Notice of proposed new recreation fee.

SUMMARY: The Columbia River Gorge National Scenic Area, located in Hood River, Oregon, is proposing to charge a new standard amenity fee of $5 per vehicle per day for use of services and facilities at the Sandy River Delta site. The 1,400-acre Sandy River Delta site, acquired by the Forest Service in 1991, offers five diverse-use trails (5.25 miles total) including a 1.2-mile accessible gravel trail to the Sandy River Delta confluence and bird blind. The Forest Service provides vault toilets, trash service, picnic tables, parking for vehicles (and vehicles with horse trailers), interpretive signage, and regular patrols of the area. The proposed fee would help cover the costs of operations and maintenance of the vault toilets, trash service, septic pumping, ranger patrols, and hazard tree abatement as well as future improvements and replacement of facilities. This fee is only proposed and will be determined upon further analysis and public comment.

DATES: Send any comments about these fee proposals by August 21, 2017 so they can be compiled, analyzed and shared with the Mt Hood-Willamette Resource Advisory Committee. If approved, the new recreation use fee will go into effect no sooner than December 19, 2017.

ADDRESSES: Area Manager, Columbia River Gorge National Scenic Area, 902 Wasco Ave., Suite 200, Hood River, OR 97031.

FOR FURTHER INFORMATION CONTACT: Lorelei Haukness, Recreation Fee Coordinator, 541-308-1700.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation. Additional information about this fee proposal is provided on the Columbia River Gorge National Scenic Area Web site at: https://www.fs.usda.gov/crgnsa/.

Dated: June 14, 2017.
Jeanne M. Higgins,
Acting Associate Deputy Chief, National Forest System.

[FR Doc. 2017-13047 Filed 6-21-17; 8:45 am]

BILLING CODE 3411-15-P